SURFACE TRANSPORTATION BOARD

[Docket No. FD 36123]

The Indiana Rail Road Company and CSX Transportation Inc.—Joint Relocation Project Exemption—Terre Haute, Ind.

On July 21, 2017, the Indiana Rail Road Company (INRD) filed a verified notice of exemption under 49 CFR 1180.2(d)(5) to enter into a joint project with CSX Transportation, Inc. (CSXT), involving the relocation of a segment of INRD's rail line in Terre Haute, Ind.

The purpose of the joint relocation project is to allow the removal of two crossing diamonds at Belt Junction, to eliminate conflicting INRD and CSXT train movements at both Belt Junction and Spring Hill, and to improve the efficiency of INRD and CSXT operations in the Terre Haute area. The joint relocation project notice covers the following actions:

(1) INRD will acquire overhead trackage rights on CSXT's Baker Siding extending from the connection with INRD's line at approximately CSXT Milepost 0ZA 181.1 at Belt Junction to the connection with INRD's line at approximately CSXT Milepost 0ZA 182.1 at Spring Hill, a distance of approximately 1.0 miles in Terre Haute.

(2) INRD will abandon its Chicago Subdivision line extending from approximately INRD Milepost 181.5 to approximately INRD Milepost 182.03 (the INRD Line), including the northeastern leg of the wye track to the Hulman Lead, a total distance of approximately 0.85 miles in the vicinity of Belt Junction. The diamond crossings of CSXT's CE&D Subdivision at Belt Junction at CSXT Milepost 0ZA 181.1 and the immediately adjacent INRD trackage will be removed. The INRD Line between the end of the track removal at Belt Junction and the connection to the Hulman Lead will remain in place as unregulated trackage pursuant to 49 U.S.C. 10906 and used solely to turn equipment.

INRD states that it does not serve any shippers on the INRD Line, and existing service to shippers on INRD's Hulman Lead will be preserved. INRD also states that the proposed relocation will improve the operation of INRD's through trains in the area, which will avoid two crossings of CSXT's CE&D Subdivision and interference from conflicting CSXT train movements. INRD argues that no shippers will be adversely affected by this relocation or lose access to any rail service currently provided by INRD.

The Board will exercise jurisdiction over the abandonment, construction, or sale components of a joint relocation project, and require separate approval or exemption, only where the removal of track affects service to shippers or the construction of new track or transfer of existing track involves expansion into new territory, or a change in existing competitive situations. See City of Detroit v. Canadian Nat'l Ry., 9 I.C.C.2d 1208 (1993), aff'd sub nom. Detroit/Wayne Cty. Port Auth. v. ICC, 59 F.3d 1314 (D.C. Cir. 1995); Flats Indus. R.R. & Norfolk S. Ry.—Joint Relocation Project Exemption—in Cleveland, Ohio, FD 34108 (STB served Nov. 15, 2001). Line relocation projects may embrace trackage rights transactions such as the one involved here. See Detroit, Toledo & Ironton R.R.—Trackage Rights—Between Wash. Court House & Greggs, Ohio—Exemption, 363 I.C.C. 878 (1981).

Under these standards, the incidental abandonment and trackage rights components require no separate approval or exemption when the relocation project, as here, will not disrupt service to shippers and thus qualifies for the class exemption at 49 CFR 1180.2(d)(5).

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

The transaction may be consummated on or after August 20, 2017, the effective date of the exemption (30 days after the verified notice was filed).

If the notice contains false or misleading information, the exemption is void ab initio. Petitions to revoke the exemption under 49 U.S.C. 10502(d) may be filed at any time. The filing of a petition to revoke will not automatically stay the transaction. Petitions to stay must be filed by August 11, 2017 (at least seven days before the exemption becomes effective).

An original and 10 copies of all pleadings, referring to Docket No. FD 36123, must be filed with the Surface Transportation Board, 395 E Street SW., Washington, DC 20423-0001. In addition, a copy of each pleading must be served on Thomas J. Litwiler, Fletcher & Sippel LLC, 29 North Wacker Drive, Suite 920, Chicago, IL 60606-2832.

Board decisions and notices are available on our Web site at WWW.STB.GOV.

Decided: August 1, 2017.
By the Board, Rachel D. Campbell, Director, Office of Proceedings.
Rena Laws-Byrum,
Clearance Clerk.

[FR Doc. 2017-16433 Filed 8-3-17; 8:45 am]

BILLING CODE 4915-00-P